MILLENNIUM CHALLENGE CORPORATION

[MCC FR 12-11]

Notice of Quarterly Report (April 1, 2012-June 30, 2012)

AGENCY: Millennium Challenge Corporation.

SUMMARY: The Millennium Challenge Corporation (MCC) is reporting for the quarter April 1, 2012, through June 30, 2012, on assistance provided under section 605 of the Millennium Challenge Act of 2003 (22 U.S.C. 7701 et seq.), as amended (the Act), and on transfers or allocations of funds to other federal agencies under section 619(b) of the Act. The following report will be made available to the public by publication in the Federal Register and on the Internet Web site of the MCC (www.mcc.gov) in accordance with section 612(b) of the Act.

Dated: October 16, 2012.
T. Charles Cooper,
Vice President, Congressional and Public Affairs, Millennium Challenge Corporation.

Assistance Provided Under Section 605
Projects | Obligated | Objective | Cumulative disbursements | Measures 2
Country: Nicaragua Year: 2012 Quarter 3 Total Obligation: $112,009,390
Entity to which the assistance is provided: MCA Nicaragua Total Quarterly Disbursements 1: $−28,532
Property Regularization Project | $7,180,454 | Increase Investment by strengthening property rights | $6,713,553 | Automated database of registry and cadastre installed in the 10 municipalities of Leon. Value of land, urban. Value of land, rural. Time to conduct a land transaction. Additional parcels with a registered title, urban. Additional parcels with a registered title, rural. Area covered by cadastral mapping. Cost to conduct a land transaction.
Transportation Project | $57,735,608 | Reduce transportation costs between Leon and Chinandega and national, regional and global markets | $56,740,790 | Annual Average daily traffic volume: N-I Highway, Section R1. Annual Average daily traffic volume: N-I Highway, Section R2. Annual Average daily traffic volume: Port Sandino (S13). Annual Average daily traffic volume: Villanueva—Guasaule Annual. Average daily traffic volume: Somotillo-Cinco Pinos (S1). Annual average daily traffic volume: León-Poneloya-Las Peñitas. International Roughness Index: N-I Highway, Section R1. International Roughness Index: N-I Highway, Section R2. International Roughness Index: Port Sandino (Section S13). International roughness index: Villanueva: Guasaule. International roughness index: Somotillo-Cinco Pinos. International roughness index: León-Poneloya-Las Peñitas. Kilometers of N-I upgraded: Sections R1 and R2 and S13. Kilometers of NI upgraded: Villanueva—Guasaule. Kilometers of S1 road upgraded. Kilometers of S9 road upgraded.
Rural Development Project | $31,530,722 | Increase the value added of farms and enterprises in the region | $31,291,352 | Beneficiaries with business plans. Manzanas (1 manzana = 1.7 hectares), by sector, harvesting higher-value crops. Beneficiaries with business plans prepared with assistance of Rural Business Development Project. Beneficiaries implementing forestry business plans under Improvement of Water Supplies Activity. Manzanas reforested. Manzanas with trees planted.
Program Administration,³ Due Diligence, Monitoring and Evaluation | $15,562,605 |  | $15,272,285 |
Pending subsequent reports ⁴ |  |  | $2,685,101 |
The negative disbursement relates to a return of funds to MCC upon MCA Nicaragua's closing.

Projects | Obligated | Objective | Cumulative disbursements | Measures 2
Country: Benin Year: 2012 Quarter 3 Total Obligation: $307,298,039
Entity to which the assistance is provided: MCA Benin Total Quarterly Disbursements 1: $142,167
Access to Financial Services Project | $17,688,674 | Expand Access to Financial Services | $15,495,910 | Value of credits granted by micro-finance institutions (MFIs) (at the national level). Value of savings collected by MFIs (at the national level). Average portfolio at risk >90 days of MFIs at the national level. Operational self-sufficiency of MFIs at the national level. Institutions receiving grants through the established grant facility. MFIs inspected by Cellule Supervision Microfinance.
Access to Justice Project | $20,075,580 | Improved Ability of Justice System to Enforce Contracts and Reconcile Claims | $19,383,915 | Average time to enforce a contract. Percent of firms reporting confidence in the judicial system. Passage of new legal codes. Average time required for Tribunaux de premiere instance (TPI) arbitration centers and courts of first instance to reach a final decision on a case. Average time required for Court of Appeals to reach a final decision on a case. Percent of cases resolved in TPI per year. Percent of cases resolved in Court of Appeals per year. Courthouses completed. Average time required to register a business (société). Average time required to register a business (sole proprietorship).
Access to Land Project | $32,182,938 | Strengthen property rights and increase investment in rural and urban land | $30,978,490 | Percent of households investing in targeted urban land parcels. Percent of households investing in targeted rural land parcels. Average cost required to convert occupancy permit to land title through systematic process. Share of respondents perceiving land security in the Conversions from Occupancy permit to land title (PH-TF) or Rural Land Plan (PFR) areas. Preparatory studies completed. Legal and Regulatory Reforms Adopted. Amount of Equipment Purchased. New land titles obtained by transformation of occupancy permit. Land certificates issued within MCA implementation. PFRs established with MCA Benin implementation. Permanent stations installed. Stakeholders trained. Communes with new cadastres. Operational land market information systems.
Access to Markets Project | $188,866,208 | Improve Access to Markets through Improvements to the Port of Cotonou | $188,683,879 | Volume of merchandise traffic through the Port Autonome de Cotonou. Bulk ship carriers waiting times at the port. Port design-build contract awarded. Annual theft cases. Average time to clear customs. Port meets international port security standards (International Ship and Port Facility Security Code).
Program Administration,³ Due Diligence, Monitoring and Evaluation | $48,484,639 |  | $46,877,986 |
Pending subsequent reports ⁴ |  |  | $471,714 |

Projects | Obligated | Objective | Cumulative disbursements | Measures 2
Country: Ghana Year: 2012 Quarter 3 Total Obligation: $547,009,000
Entity to which the assistance is provided: MCA Ghana Total Quarterly Disbursements 1: $42,629,978
Agriculture Project | $203,234,837 | Enhance Profitability of cultivation, services to agriculture and product handling in support of the expansion of commercial agriculture among groups of smallholder farms | $201,898,740 | Farmers trained in commercial agriculture. Additional hectares irrigated. Hectares under production. Kilometers of feeder road completed. Percent of contracted feeder road works disbursed. Value of loans disbursed to clients from agriculture loan fund. Portfolio-at-risk of Agriculture Loan Fund (percent). Cooling facilities installed. Percent of contracted irrigation works disbursed. Total parcels registered in the Pilot Land Registration Areas. Volume of products passing through post-harvest treatment.
Rural Development Project | $76,521,481 | Strengthen the rural institutions that provide services complementary to, and supportive of, agricultural and agriculture business development | $75,535,187 | Students enrolled in schools affected by Education Facilities Sub-Activity. Additional female students enrolled in schools affected by Education Facilities Sub-Activity. Individuals completing internships at Ministries, Departments and Agencies (MDAs) and Metropolitan, Municipal and District Assemblies (MMDAs). Schools rehabilitated. School blocks constructed. Distance to collect water. Households with access to improved water supply. Water points constructed. Kilometers of electricity lines identified and diligence. Inter-bank transactions. Rural banks automated under the Automation/Computerization and Interconnectivity of Rural Banks activity. Rural banks connected to the wide area network (WAN). Agricultural processing plants in target districts with electricity due to Rural Electrification Sub-Activity. N1 Highway: Annualized average daily traffic. N1 Highway: Kilometers of road upgraded. Trunk roads kilometers of roads completed. Percent of contracted trunk road works disbursed. Ferry Activity: Annualized average daily traffic vehicles. Ferry Activity: Annual average daily traffic (passengers). Percent of contracted road works disbursed: N1 Highway, Lot 2. Percent of contracted road works disbursed: N1 Highway, Lot 2. Percent of contracted work disbursed: Ferry and floating dock. Percent of contracted work disbursed: Landings and terminals.
Program Administration,³ Due Diligence, Monitoring and Evaluation | $46,621,604 |  | $40,704,077 |
Pending subsequent reports ⁴ |  |  | $5,181,487 |

Projects | Obligated | Objective | Cumulative disbursements | Measures 2
Country: El Salvador Year: 2012 Quarter 3 Total Obligation: $460,940,000
Entity to which the assistance is provided: MCA El Salvador Total Quarterly Disbursements 1: $26,748,928
Human Development Project | $89,146,523 | Increase human and physical capital of residents of the Northern Zone to take advantage of employment and business opportunities | $77,194,326 | Non-formal trained students that complete the training. Students participating in MCC-supported education activities. Additional school female students enrolled in MCC-supported activities. Instructors trained or certified through MCC-supported activities. Educational facilities constructed/rehabilitated and/or equipped through MCC-supported activities. Households with access to improved water supply. Households with access to improved sanitation. Persons trained in hygiene and sanitary best practices. Households benefiting with a connection to the electricity network. Household benefiting with the installation of isolated solar systems. Kilometers of new electrical lines with construction contracts signed. Population benefiting from strategic infrastructure. Beneficiaries of technical assistance and training—Agriculture. Beneficiaries of technical assistance and training—Agribusiness. Value of agricultural loans to farmers/agribusiness.
Connectivity Project | $269,212,588 | Reduce travel cost and time within the Northern Zone, with the rest of the country, and within the region | $235,293,663 | Average annual daily traffic on the Northern Transnational Highway. Travel time from Guatemala to Honduras through the Northern Zone (hours and minutes). Kilometers of roads completed.
Productive Development Project | $68,215,522 |  | $63,079,228 | Employment created. Investment in productive chains by selected beneficiaries. Hectares under production with MCC support. Beneficiaries of technical assistance and training—agriculture. Beneficiaries of technical assistance and training—agribusiness. Amount of Investment Support Fund (FIDENORTE) approved. Value of agricultural loans to farmers/agribusiness. Value of loans guaranteed. Guarantees granted.
Program Administration ³ and Control, Monitoring and Evaluation | $34,365,368 |  | $25,164,471 |
Pending Subsequent Report ⁴ |  |  | $0 |

Projects | Obligated | Objective | Cumulative disbursements | Measures 2
Country: Mali Year: 2012 Quarter 3 Total Obligation: $460,811,163
Entity to which the assistance is provided: MCA Mali Total Quarterly Disbursements 1: $33,039,103
Bamako-Senou Airport Improvement Project | $170,669,220 |  | $121,796,751 | Annual foreign visitors, non-residents. Percent of work completed on the airside infrastructure. Percent of work completed on the landside infrastructure. Security and safety deficiencies corrected at the airport.
Alatona Irrigation Project | $245,467,572 | Increase the agricultural production and productivity in the Alatona zone of the ON | $235,822,867 | Cultivation intensity during the dry season (percent). Value of agricultural products sold by farmers (millions of francs CFA). Percent of works completed on Niono-Goma Coura road. hectares under new irrigation. Irrigation system efficiency on Alatona Canal. Percent of contracted irrigation construction works disbursed. Market gardens allocated in Alatona zones to populations affected by the project or New Settler women. Five-hectares farms distributed to new settlers. Rural hectares formalized. Net primary school enrollment rate (in Alatona zone). Functional producer organization. Hectares under production (rainy season). Hectares under production (dry season). Organisation d'exploitation des reseaux secondaires (OERSs) or water user's associations established. Active MFI clients.
Industrial Park Project | $2,637,472 | Terminated | $2,637,472 |
Program Administration ³ and Control, Monitoring and Evaluation | $42,036,897 |  | $31,922,678 |
Pending Subsequent Report ⁴ |  |  | $2,580,408 |
On May 4, 2012, the MCC Board of Directors concurred with the recommendation of MCC to terminate the Mali Compact following the undemocratic change of government in the country.

Projects | Obligated | Objective | Cumulative disbursements | Measures 2
Country: Mongolia Year: 2012 Quarter 3 Total Obligation: $284,911,363
Entity to which the assistance is provided: MCA Mongolia Total Quarterly Disbursements 1: $20,578,613
Property Rights Project | $27,802,618 | Increase security and capitalization of land assets held by lower-income Mongolians, and increased peri-urban herder productivity and incomes | $14,469,888 | Wells drilled on leaseholds. Legal and regulatory reforms adopted. Stakeholders trained (Peri-Urban and Land Plots). Herder groups limiting their livestock population to the carrying capacity of their leases on semi-intensive farms. Monetary cost to register land (dollars). Buildings Built/Rehabilitated. Urban parcels formalized. Stakeholders trained (Ger Area Land Plots). Leaseholds Awarded.
Vocational Education Project | $47,255,637 | Increase employment and income among unemployed and underemployed Mongolians | $34,057,626 | Students participating in MCC-supported educational facilities. Nongovernmental funding of vocational education (percent). Legal, financial and/or policy reforms adopted. Instructors trained or certified through MCC-supported activities. Labor market assessment completed. Educational facilities constructed/rehabilitated or equipped through MCC-supported activities. Amount of contracted construction/rehabilitation/equipping works disbursed.
Health Project | $38,823,258 | Increase the adoption of behaviors that reduce non-communicable disease sand injuries (NCDIs) among target populations and improved medical treatment and control of NCDIs | $22,615,809 | Amount of budget allocated by health center. Civil society mobilization. Training of health staff by MCA. Improved services in non-communicable diseases-primary health care (NCD-PHC) facilities (percent). Screening for hypertension (percent). Awareness of working population related to NCD prevention (percent). Early detections of cervical cancer.
Roads Project | $88,440,123 | More efficient transport for trade and access to services | $11,144,797 | Kilometers of roads completed. Kilometers of roads under design. Percent of contracted roads works disbursed.
Energy and Environmental Project | $45,266,205 | Increased wealth and productivity through greater fuel use efficiency and decreasing health costs from air | $26,300,378 | Amount of household savings from decreased fuel costs. Stoves distributed by MCA. Wind power dispatched from substation (million kilowatt hours). Reduced particulate matter concentration.
Rail Project | $369,560 | Terminated | $369,560 | Terminated.
Program Administration ³ and Control, Monitoring and Evaluation | $37,303,959 |  | $20,965.342 |
Pending subsequent reports ⁴ |  |  | $6,871,906 |
In late 2009, the MCC Board of Directors approved the allocation of a portion of the funds originally designated for the rail project to the expansion of the health, vocational education and property right projects, and the remaining portion to the addition of a road project.

Projects | Obligated | Objective | Cumulative disbursements | Measures 2
Country: Mozambique Year: 2012 Quarter 3 Total Obligation: $506,924,053
Entity to which the assistance is provided: MCA Mozambique Total Quarterly Disbursements 1: $24,883,975
Water Supply and Sanitation Project | $207,385,393 | Increase access to reliable and quality water and sanitation facilities | $58,617,571 | Percent of urban population with improved water sources. Value of municipal sanitation and drainage systems construction contracts signed. Amount disbursed for municipal sanitation and drainage construction contracts. Value of contracts signed for construction of water systems. Percent of construction contract disbursed for water systems. Percent of urban population with improved sanitation facilities. Percent of rural population with access to improved water sources. Rural water points constructed. Amount disbursed for rural water points construction contracts. Persons trained in hygiene and sanitary best practices.
Road Rehabilitation Project | $176,307,480 | Increase access to productive resources and markets | $43,519,396 | Percent of roads works contracts disbursed. Kilometers of roads issued “Take-over Certificates”.
Land Tenure Project | $39,068,307 | Establish efficient, secure land access for households and investors | $19,501,034 | Proposals for improvement to land legislation submitted (land policy reform). People trained (paralegal courses at Centre for Juridical and Judicial Training (CFJJ), general training at National Directorate of Land and Forest (DNTF), etc.). Rural hectares mapped in site specific activity. Urban parcels mapped. Rural hectares formalized through site specific activity. Urban parcels formalized. Communities delimited and formalized.
Farmer Income Support Project | $18,400,117 | Improve coconut productivity and diversification into cash crop | $11,590,924 | Coconut seedlings planted. Survival rate of coconut seedlings. Hectares of alternate crops under production. Farmers trained in pest and disease control. Farmers trained in alternative crop production and productivity enhancing strategies. Farmers trained in planting and post-planting management of coconuts. Farmers using alternative crop production and productivity enhancing strategies.
Program Administration ³ and Control, Monitoring and Evaluation | $65,762,756 |  | $29,229,784 |
Pending Subsequent Report ⁴ |  |  | $7,031,887 |

Projects | Obligated | Objective | Cumulative disbursements | Measures 2SONYA
Country: Lesotho Year: 2012 Quarter 3 Total Obligation: $362,550,999
Entity to which the assistance is provided: MCA Lesotho Total Quarterly Disbursements¹: $21,606,156
Water Project | $164,027,999 | Improve the water supply for industrial and domestic needs, and enhance rural livelihoods through improved watershed management | $59,854,827 | Physical completion of Temolong water treatment works contract. Physical completion of Urban Water supply works contracts (percent). Feasibility and/or detailed design contracts disbursed for Urban Water systems. People with access to rural water supply. Ventilated improved pit (VIP) latrines built. Rural Water Supply works contracts disbursed (percent). Households with access to improved latrines. Knowledge of good hygiene practices. Households with reliable water services. Enterprises with reliable water services.
Health Project | $121,377,822 | Increase access to life-extending ART and essential health services by providing a sustainable delivery platform | $70,941,491 | People with HIV still alive 12 months after initiation of treatment. Tuberculosis notification (per 100,000 people). People living with HIV/AIDS receiving antiretroviral treatment. Deliveries conducted in the health facilities. Diarrhea notification at health centers (per 1,000 people). Physical completion of health center facilities (percent). Physical completion of outpatient departments (OPDs) (percent). Physical completion of the Botsabelo facilities (BTS) (percent).
Private Sector Development Project | $36,470,318 | Stimulate investment by improving access to credit, reducing transaction costs and increasing the participation of women in the economy | $14,152,223 | Time required to enforce a contract. Value of commercial cases. Debit/smart cards issued. Value of registered mortgage bonds. Land parcels regularized and registered. People trained on gender equality and economic rights. Eligible population with ID cards. Percent of population registered in national identification database. Urban land parcels with approved cadastral maps. Stakeholders trained. Enterprises owned by women. Women holding titles to land.
Program Administration ³ and Control, Monitoring and Evaluation | $40,674,860 |  | $25,684,861 |
Pending Subsequent Report ⁴ |  |  | $3,341,560 |

Projects | Obligated | Objective | Cumulative disbursements | Measures 2
Country: Morocco Year: 2012 Quarter 3 Total Obligation: $697,500,000
Entity to which the assistance is provided: MCA Morocco Total Quarterly Disbursements ¹: $51,098,739
Fruit Tree Productivity Project | $328,453,084 | Reduce volatility of agricultural production and increase volume of fruit agricultural production | $178,065,797 | Farmers trained Agribusinesses assisted. Hectares under production. Value of olive production in rain-fed areas (dollars/year). Area in extension perimeters for which water and soil conservation measures have been implemented (hectares). Value of olive production in irrigated areas (dollars/year). Cumulative area of irrigated perimeters rehabilitated (hectares). Length of irrigation canals resurfaced/rehabilitated (meters). Value of date production in targeted oasis areas (dollars/year). Value of agricultural production. Length of irrigation canals constructed/rehabilitated (meters).
Small Scale Fisheries Project | $125,174,973 | Improve quality of fish moving through domestic channels and assure the sustainable use of fishing resources | $26,651,719 | Landing sites and ports rehabilitated. Mobile fish vendors supplied with and using refrigerated carriers. Volume of fish landed at landing sites. Average price of fish at auction markets.
Artisan and Fez Medina Project | $94,283,145 | Increase value added to tourism and artisan sectors | $25,791,159 | Total receiving literacy training. Females receiving literacy training. Total receiving professional training. Females receiving professional training. Gas kilns bought for artisans. Small- and medium-sized enterprise (SME) artisan sales for export. Tourist circuits improved or created. Sites rehabilitated. Training of potters
Enterprise Support Project | $26,811,445 | Improved survival rate of new SMEs and INDH-funded income generating activities; increased revenue for new SMEs and INDH-funded income generating activities | $13,822,606 | Survival rate after two years. Days of individual coaching. Beneficiaries trained.
Financial Services Project | $43,700,000 | To be determined (“TBD”) | $27,168,788 | Portfolio at risk at 30 days. Clients of microcredit associations reached through mobile branches. Active clients. Value of loan disbursements to Jaida.
Program Administration ³ and Control, Monitoring and Evaluation | $79,077,353 |  | $48,474,119 |
Pending Subsequent Report ⁴ |  |  | $5,847,622 |

Projects | Obligated | Objective | Cumulative disbursements | Measures 2
Country: Tanzania Year: 2012 Quarter 3 Total Obligation: $698,135,999
Entity to which the assistance is provided: MCA Tanzania Total Quarterly Disbursements 1: $31,790,382
Energy Sector Project | $207,465,542 | Increase value added to businesses | $99,683,291 | Current power customers: Morogoro D1, Morogoro T1, Morogoro T2 & T3, Tanga D1, Tanga T1, Tanga T2 & T3, Mbeya D1, Mbeya T1, Mbeya T2 & T3, Iringa D1, Iringa T1, Iringa T2 & T3, Dodoma D1, Dodoma T1, Dodoma T2 & T3, Mwanza D1, Mwanza T1 and Mwanza T2 & T3. Collection efficiency (Morogoro). Collection efficiency (Tanga). Collection efficiency (Mbeya). Collection efficiency (Iringa). Collection efficiency (Dodoma). Collection efficiency (Mwanza). Collection efficiency (Zanzibar). Technical and nontechnical losses (Morogoro). Technical and nontechnical losses (Tanga). Technical and nontechnical losses (Mbeya). Technical and nontechnical losses (Iringa). Technical and nontechnical losses (Dodoma). Technical and nontechnical losses (Mwanza). Technical and nontechnical losses (Zanzibar).
Transport Sector Project | $368,847,428 | Increase cash crop revenue and aggregate visitor spending | $165,791,113 | Kilometers upgraded/completed: All Mainland road segments. Percent disbursed on construction works: Tunduma Sumbawanga. Percent disbursed on construction works: Tanga Horohoro. Percent disbursed on construction works: Namtumbo Songea. Percent disbursed on construction works: Peramiho Mbinga. Kilometers upgraded/completed: Pemba. Percent disbursed on construction works: Pemba. Percent disbursed on construction works: Mafia Island.
Water Sector Project | $65,692,145 | Increase investment in human and physical capital and to reduce the prevalence of water-related disease | $30,627,441 | Customers (domestic and nondomestic)—Lower Ruvu Plant. Customers (domestic and nondomestic)—Morogoro. Volume of water produced—Lower Ruvu (millions of liters per day). Volume of water produced—Morogoro (millions of liters per day). Operations and maintenance cost recovery—Lower Ruvu. Operations and maintenance cost recovery—Morogoro. Percent disbursed on construction contract—Lower Ruvu. Percent disbursed on construction contract—Morogoro.
Program Administration ³ and Control, Monitoring and Evaluation | $56,130,884 |  | $24,549,151 |
Pending Subsequent Report ⁴ |  |  | $99,857 |

Projects | Obligated | Objective | Cumulative disbursements | Measures 2
Country: Burkina Faso Year: 2012 Quarter 3 Total Obligation: $478,685,358
Entity to which the assistance is provided: MCA Burkina Faso Total Quarterly Disbursements 1: $18,955,202
Roads Project | $194,130,681 | Enhance access to markets through investments in the road network | $15,227,750 | Annual average daily traffic: Dedougou-Nouna. Annual average daily traffic: Nouna-Bomborukuy. Annual average daily traffic: Bomborukuy-Mali border. Kilometers of road under works contract. Kilometers of road under design/feasibility contract. Access time to the closest market via paved roads in the Sourou and Comoe (minutes). Kilometers of road under works contract. Kilometers of road under design/feasibility contract. Personnel trained in procurement, contract management and financial systems. Periodic road maintenance coverage rate (for all funds) (percent).
Rural Land Governance Project | $59,934,615 | Increase investment in land and rural productivity through improved land tenure security and land management | $14,771,510 | Trend in incidence of conflict over land rights reported in the 17 pilot communes (annual percent rate of change in the occurrence of conflicts over land rights). Legal and regulatory reforms adopted. Stakeholders reached by public outreach efforts. Personnel trained. Rural land service offices installed and functioning. Rural hectares formalized. Extent of confidence in land tenure security. Parcels registered in Ganzourou project area.
Agriculture Development Project | $141,910,059 | Expand the productive use of land in order to increase the volume and value of agricultural production in project zones | $34,891,674 | New irrigated perimeters developed in Di (hectares). Value of signed contracts for irrigation systems works. Farmers trained. Agro-sylvo-pastoral groups that receive technical assistance. Loans provided by the rural finance facility. Volume of loans intended for agro-sylvo-pastoral borrowers (million francs CFA).
Bright II Schools Project | $26,829,669 | Increase primary school completion rates | $26,582,359 | Girls/boys graduating from BRIGHT II primary schools. Percent of girls regularly attending (90 percent attendance) BRIGHT schools. Girls enrolled in the MCC/USAID-supported BRIGHT schools. Boys enrolled in the MCC/USAID-supported BRIGHT schools. Additional classrooms constructed. Teachers trained through 10 provincial workshops.
Program Administration ³ and Control, Monitoring and Evaluation | $56,138,545 |  | $28,462,114 |
Pending Subsequent Report ⁴ |  |  | $0 |

Projects | Obligated | Objective | Cumulative disbursements | Measures 2
Country: Namibia Year: 2012 Quarter 3 Total Obligation: $304,477,815
Entity to which the assistance is provided: MCA Namibia Total Quarterly Disbursements 1: $13,451,767
Education Project | $144,976,558 | Improve the quality of the workforce in Namibia by enhancing the equity and effectiveness of basic | $35,340,885 | Students (any level) participating in the 47 schools sub-activity. Percent of contracted construction works disbursed for 47 schools. Textbooks delivered. Educators trained to be textbook management trainers. Educators trained to be textbook utilization trainers. Percent disbursed against works contracts for Regional Study Resource Centers Activity (RSRCs). Percent disbursed against construction, rehabilitation, and equipment contracts for Community Skills and Development Centres (COSDECS).
Tourism Project | $66,994,941 | Grow the Namibian tourism industry with a focus on increasing income to households in communal | $11,872,173 | Percent of condition precedents and performance targets met for Etosha National Park (ENP) activity. Game translocated with MCA support. Unique visits on Namibia Tourism Board (NTB) Web site. Leisure tourist arrivals. North American tourism businesses (travel agencies and tour operators) that offer Namibian tours or tour packages. Value of grants issued by the conservancy grant fund (Namibian dollars). Amount of private sector investment secured by MCA assisted conservancies (Namibian dollars). Annual gross revenue to conservancies receiving MCA assistance.
Agriculture Project | $47,835,474 | Enhance the health and marketing efficiency of livestock in the NCAs of Namibia and to increase income | $15,603,155 | Participating households registered in the Community-Based Rangeland and Livestock Management (CBRLM) sub-activity. Cattle tagged with radio frequency identification (RFID) tags. Percent disbursed against works contracts for State Veterinary Offices. Value of grant agreements signed under Livestock Market Efficiency Fund. Indigenous natural product (INP) producers mobilized and trained. Value of grant agreements signed under INP Innovation Fund.
Program Administration ³ and Control, Monitoring and Evaluation | $44,670,841 |  | $17,792,317 |
Pending Subsequent Report ⁴ |  |  | $6,212,840 |

Projects | Obligated | Objective | Cumulative disbursements | Measures 2
Country: Moldova Year: 2012 Quarter 3 Total Obligation: $262,000,000
Entity to which the assistance is provided: MCA Moldova Total Quarterly Disbursements 1: $3,914,008
Road Rehabilitation Project | $132,840,000 | Enhance transportation conditions | $606,764 | Reduced cost for road users. Average annual daily traffic. Road maintenance expenditure. Kilometers of roads completed. Percent of contracted roads works disbursed. Kilometers of roads under works contracts. Resettlement action plan implemented. Final design. Trafficking in persons (TIP) training participants.
Transition to High Value Agriculture Project | $101,773,402 | Increase incomes in the agricultural sector; Create models for transition to HVA in CIS areas and an enabling environment (legal, financial and market) for replication | $11,549,102 | Hectares under improved or new irrigation. Centralized irrigation systems rehabilitated. Percent of contracted irrigation feasibility and/or design studies disbursed. Value of irrigation feasibility and/or detailed design contracts signed. Water user associations (WUA) achieving financial sustainability. WUA established under new law. Revised water management policy framework—with long-term water rights defined—established. Contracts of association signed. Additionality factor of access to agricultural finance investments. Value of agricultural and rural loans. All loans. All loans (female). High value agriculture (HVA) Post-Harvest Credit Facility launched. HVA Post-Harvest Credit Facility Policies and Procedures Manual (PPM) Finalized. Farmers that have applied improved techniques (Growing High Value Agriculture Sales [GHS]). Farmers that have applied improved techniques (GHS) (female). Farmers trained. Farmers trained (female). Enterprises assisted. Enterprises assisted (female).
Program Administration ³ and Monitoring and Evaluation | $27,386,598 |  | $3,341,607 |
Pending Subsequent Report ⁴ |  |  | $−292,108 |

Projects | Obligated | Objective | Cumulative disbursements | Measures 2
Country: Philippines Year: 2012 Quarter 3 Total Obligation: $432,829,526
Entity to which the assistance is provided: MCA Philippines Total Quarterly Disbursements 1: $9,834,492
Kalahi-CIDSS Project | $120,000,000 | Improve the responsiveness of local governments to community needs, encourage communities to engage in development activities. | $7,500,655 | Percent of Municipal Local Government Units that provide funding support for Kalahi-CIDSS (KC) subproject operations and maintenance. Completed KC subprojects implemented in compliance with technical plans and within schedule and budget. Percent of communities with KC subprojects that have sustainability evaluation rating of satisfactory or better.
Secondary National Roads Development Project | $213,412,526 | Reduce transportation costs and improve access to markets and social services | $9,699,458 | Motorized traffic time cost. Maintenance savings. Kilometers of road sections completed. Value of road construction contracts disbursed. Value of signed road feasibility and design contracts. Value of road feasibility and design contracts disbursed.
Revenue Administration Reform Project | $54,300,000 | Increase tax revenues over time and support the Department of Finance's initiatives to detect and deter corruption within its revenue agencies | $3,928,373 | Audits performed. Revenue District Offices using the electronic tax information system (eTIS). Percent of audit completed in compliance with prescribed period of 120 days. Percent of audit cases performed using automated audit tool (AATs). Successful case resolutions. Personnel charged with graft, corruption, lifestyle and/or criminal cases. Time taken to complete investigation (average).
Program Administration ³ and Control, Monitoring and Evaluation | $45,117,000 |  | $2,149,258 |
Pending Subsequent Reports ⁴ |  |  | $12,074,532 |

Projects | Obligated | Objective | Cumulative disbursements | Measures 2
Country: Senegal Year: 2012 Quarter 3 Total Obligation: $540,000,000
Entity to which the assistance is provided: MCA Senegal Total Quarterly Disbursements 1: $1,937,680
Road Rehabilitation Project | $324,712,499 | Expand Access to Markets and Services | $2,067,948 | Value of contracts signed for the feasibility, design, supervision and program management of the RN2 and RN6 National Roads. Value of contracts signed for construction of the RN2 and RN6 National Roads. Kilometers of roads rehabilitated on the RN2 National Road. Annual average daily traffic Richard-Toll—Ndioum. Percent change in travel time on the RN2. International Roughness Index on the RN2 (lower number = smoother road). Kilometers of roads covered by the contract for the studies, the supervision and management of the RN2 National Road. Kilometers of roads rehabilitated on the RN6 National Road. Annual average daily traffic Ziguinchor—Tanaff. Annual average daily traffic Tanaff—Kolda. Annual average daily traffic Kolda—Kounkané. Percent change in travel time on the RN6 National Road. International Roughness Index on the RN6 National Road (lower number = smoother road). Kilometers of roads covered by the contract for the studies, the supervision and management of the RN6 National Road.
Irrigation and Water Resources Management Project | $170,008,860 | Improve productivity of the agricultural sector | $416,317 | Tons of irrigated rice production. Potentially irrigable lands area (Delta and Ngallenka). Hectares under production. Total value of feasibility, design and environmental study contracts signed for the Delta and the Ngallenka (including resettlement action plans). Cropping intensity (hectares under production per year/cultivable hectares) (Delta and Ngallenka). Hectares mapped to clarify boundaries and land use types. Percent of new conflicts resolved. People trained on land security tools.
Program Administration ³ and Monitoring and Evaluation | $45,278,641 |  | $6,893,667 |
Pending Subsequent Report ⁴ |  |  | $1,413,529 |

Projects | Obligated | Objective | Cumulative disbursements | Measures 2
Country: Jordan Year: 2012 Quarter 3 Total Obligation: $547,009,000
Entity to which the assistance is provided: MCA Jordan Total Quarterly Disbursements 1: $102,261
Water Network Project | $102,570,034 | Improve the overall drinking water system efficiency in Jordan's Zarqa Governorate |  | Network water consumption per capita (residential and non-residential); liters/capita/day. Operating cost coverage—Water Authority Jordan Zarqa. Non-revenue water. Continuity of supply time; hours per week. Restructure and rehabilitate primary and secondary pipelines (kilometers). Restructure and rehabilitate tertiary pipelines (kilometers). Value disbursed of water construction contracts—Infrastructure Activity and Water Smart Homes Activity.
Wastewater Network Project | $58,224,386 | Improve the overall waste water system efficiency in Jordan's Zarqa Governorate |  | Sewer blockage events (annual). Volume of wastewater collected; cubic meters/year/million. Residential population connected to the sewer system. Expand Network (kilometers). Value disbursed of sanitation construction contracts.
As Samra Wastewater Treatment Plant Expansion Project | $97,521,000 | Increase the volume of treated waste water available as a substitute for fresh water in agriculture use |  | Treated wastewater used in agriculture (as a percent of all water used for irrigation in Northern and Middle Jordan Valley). Value disbursed of construction contracts. Total engineering, procurement and construction (EPC) cost of As-Samra Expansion.
Program Administration ³ and Control, Monitoring and Evaluation | $19,784,580 |  | $102,261 |
Pending subsequent reports ⁴
¹ In this report, due to accounting changes, MCC shows disbursements, which are cash outlays, rather than expenditures.
² These measures are the same Key Performance Indicators that MCC reports each quarter. The Key Performance Indicators may change over time to more accurately reflect compact implementation progress. The unit for these measures is “number of” unless otherwise specified.
³ Program administration funds are used to pay items such as salaries, rent, and the cost of office equipment.
⁴ These amounts represent disbursements made that will be allocated to individual projects in the subsequent quarter(s) and reported as such in subsequent quarterly report(s).
The following MCC Compacts are closed and, therefore, do not have any quarterly disbursements: Armenia, Cape Verde, Georgia, Honduras, Madagascar, and Vanuatu.

619(b) Transfer or Allocation of Funds: United States Agency to which Funds were Transferred or Allocated | 619(b) Transfer or Allocation of Funds: Amount | 619(b) Transfer or Allocation of Funds: Description of program or project
None | None | None

[FR Doc. 2012-25574 Filed 10-16-12; 8:45 am]

BILLING CODE 9211-03-P